DEPARTMENT OF COMMERCE

International Trade Administration

[A-552-801]

Certain Frozen Fish Fillets From the Socialist Republic of Vietnam: Extension of Time for Final Results of the New Shipper Review

AGENCY: Import Administration, International Trade Administration, Department of Commerce.

DATES: Effective Date: January 10, 2012.

FOR FURTHER INFORMATION CONTACT: Emeka Chukwudebe, AD/CVD Operations, Office 9, Import Administration, International Trade Administration, U.S. Department of Commerce, 14th Street and Constitution Avenue NW, Washington, DC 20230; telephone: (202) 482-0219.

Background

On December 13, 2011, the Department of Commerce (“Department”) published in the Federal Register the preliminary results of the new shipper review of certain frozen fish fillets from the Socialist Republic of Vietnam covering the period August 1, 2010, through January 31, 2011.¹ The final results are currently due no later than March 4, 2012.

¹ See Certain Frozen Fish Fillets From the Socialist Republic of Vietnam: Preliminary Results of the New Shipper Review, 76 FR 77485 (December 13, 2011).

Extension of Time Limits for Final Results

Section 751(a)(2)(B)(iv) of the Tariff Act of 1930, as amended (“Act”), and 19 CFR 351.214(i)(2) require the Department to issue the final results in a new shipper review of an antidumping duty order 90 days after the date on which the preliminary results are issued. The Department may, however, extend the deadline for completion of the final results of a new shipper review to 150 days if it determines that the case is extraordinarily complicated. See section 751(a)(2)(B)(iv) of the Act and 19 CFR 351.214(i)(2).

The Department finds this case to be extraordinarily complicated because there is voluminous new material on the record regarding the surrogate value of whole fish that has not yet been considered in a completed review. As a result, the Department will need more time to analyze the data. Therefore, in accordance with section 751(a)(2)(B)(iv) of the Act, we are extending the time for the completion of the final results of this new shipper review by 60 days to May 3, 2012.

We are issuing and publishing this notice in accordance with sections 751(a)(1) and 777(i)(1) of the Act.

Dated: January 3, 2012.
Gary Taverman,
Acting Deputy Assistant Secretary for Antidumping and Countervailing Duty Operations.

[FR Doc. 2012-239 Filed 1-9-12; 8:45 am]

BILLING CODE 3510-DS-P